DEPARTMENT OF ENERGY

Federal Energy Regulatory Commission

[Docket Nos. CP03-338-000, CP03-339-000 and CP03-340-000]

Panther Interstate Pipeline Energy, L.L.C.; Notice of Application

July 29, 2003.

Take notice that on July 18, 2003, Panther Interstate Pipeline Energy, L.L.C. (Panther Interstate), 14405 Walters Road, Houston, Texas 770141337, filed in Docket Nos. CP03-338-000, CP03-339-000, and CP03-340-000, an application pursuant to Section 7(c) of the Natural Gas Act, as amended (NGA), and Subpart A of part 157 and part 284 of the Federal Energy Regulatory Commission's (Commission) Regulations thereunder, for certificates of public convenience and necessity authorizing Panther Interstate to acquire and operate certain facilities in on and off-shore Texas from the Natural Gas Pipeline Company of America (Natural), all as more fully set forth in the application which is on file with the Commission and open to public inspection. Panther Interstate states that Natural is simultaneously filing a related application requesting, in Docket No. CP03-337-000, authorization to abandon, by sale, the subject facilities. This filing, as well as the Natural filing are available for review at the Commission in the Public Reference Room or may be viewed on the Commission's Web site at http://www.ferc.gov using the “FERRIS” link. Enter the docket number excluding the last three digits in the docket number field last three digits in the docket number field to access the document. For assistance, please contact FERC Online Support at FERCOnlineSupport@ferc.gov or toll-free at (866)208-3676, or for TTY, contact (202)502-8659.

Panther Interstate states that pursuant to a purchase and sale agreement between Natural and Prism and Panther dated December 21, 2001, as amended on March 20, 2003, May 22, 2003, and June 26, 2003 (“PSA Agreement”), Natural has agreed to sell and Panther Interstate has agreed to acquire both the jurisdictional and non-jurisdictional facilities for $400,000 plus additional consideration. Upon receipt of the requisite acquisition authority and the blanket certificates sought in the present application, Panther Interstate states that it will:

• Acquire and operate 22 miles of 16inch diameter offshore and related onshore pipeline and appurtenances originating at, but not including a sub-sea tap assembly in High Island Block 48, offshore, Texas, and terminating onshore near a connection with Natural's 30inch Louisiana Mainline No. 1 in Jefferson County, Texas (i.e., a portion of what is known as Natural's High Island Block 71A Lateral), a dual 8inch meter and appurtenances located onshore at Natural's Booster Station No. 344 property in Jefferson County, Texas (“BS 344”) and a 12inch sub-sea tap located in High Island Block 11;

• Acquire and operate 3.12 miles of 20inch onshore pipeline (known as Natural's Sabine Pass Lateral) and appurtenances originating near Natural's BS 344 in Jefferson County, Texas and terminating near a connection with Natural's 30inch Louisiana Mainline No. 2 in Jefferson County, Texas and a dual 12inch meter and appurtenances located at BS 344;

• Undertake selfimplementing interstate transportation of natural gas under part 284, Subpart G, of the Commission's Regulations; and

• Engage in any of the activities specified in Subpart F, part 157, of the Commission's Regulations.

Any questions regarding the application should be directed to Philip D. Gettig, Prism Gas Systems, Inc., 2350 Airport Freeway, Suite 200, Bedford, Texas, at (817)684-0158 Ext. 225, Luis M. Guzman, Panther Pipeline, Ltd., 14405 Walters Road, Suite 960, Houston, Texas, 77014 at (832)-552-3600, or Douglas F. John, John & Hengerer, 1200 17th Street, NW., Suite 600, Washington, DC, 20036-3013 at (202)429-8801.

Panther Interstate states that by the Commission's order issued September 20, 2002, in Docket No. CP0281000 (September 20th Order), Natural was authorized to a abandon a portion of the facilities in the High Island Area, offshore Texas by sale to Prism Gas Systems, Inc. and Panther Pipeline, Ltd. (Prism/Panther), two existing non-jurisdictional gathering companies, which facilities the Commission found to be non-jurisdictional gathering facilities (non-jurisdictional facilities). However, Panther Interstate states, the Commission also found in the September 20th Order that a portion of the facilities that Natural had sought to abandon by sale to Prism/Panther in the High Island Area and onshore in Jefferson County, Texas were jurisdictional gas transmission facilities (jurisdictional facilities), and the Commission did not grant Natural authority to abandon these facilities. Therefore, Prism/Panther have set up a subsidiary, Panther Interstate, to be an interstate pipeline natural gas company subject to the jurisdiction of the Commission, to acquire, own and operate the jurisdictional facilities. Panther Interstate notes that it will also acquire and operate the facilities Natural was authorized to abandon, which were found to be non-jurisdictional by the September 20th Order. Panther Interstate states that by a separate related application (CP03-337-000), being filed simultaneously, Natural is seeking abandonment authority to sell the jurisdictional facilities to Panther Interstate.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

August 19, 2003.
Magalie R. Salas,
Secretary.

[FR Doc. 03-19831 Filed 8-4-03; 8:45 am]

BILLING CODE 6717-01-P